DEPARTMENT OF HEALTH AND HUMAN SERVICES

Health Resources and Services Administration

Notice of Single-Award Deviation From Competition Requirements for the National Technical Resource Center for the Newborn Hearing Screening and Intervention Program at Utah State University—Grant Number U52MC04391

AGENCY: Health Resources and Services Administration (HRSA), Department of Health and Human Services.

ACTION: Notice of Single-Award Deviation from Competition Requirements for the National Technical Resource Center for the Newborn Hearing Screening and Intervention Program at Utah State University—Grant Number U52MC04391.

SUMMARY: HRSA announces the award of a supplement in the amount of $460,000 for the National Technical Resource Center (NTRC) for the Newborn Hearing Screening and Intervention program cooperative agreement. The purpose of the NTRC is to promote the use of targeted and measurable interventions to increase the number of infants who are followed up for rescreening, referral, and intervention after having not passed a physiologic newborn screening examination prior to discharge from newborn nurseries. Under the authority of the Economy Act approved June 30, 1932, as amended (31 U.S.C. 1535) and Section 648(a)(1) of the Head Start Act (42 U.S.C. 9843(a)(1)), Public Law 110-134, the Administration for Children and Families (ACF) is delegating authority to HRSA to administer this grant supplement on its behalf and to obligate approximately $460,000 under an Interdepartmental Delegation of Authority (IDDA) to provide funds to the NTRC for the Newborn Hearing Screening and Intervention Program. Authorized by Section 648(a)(1) of the Improving Head Start Readiness Act (42 U.S.C. 9843(a)(1), ACF provides technical assistance and training for Head Start programs for the purpose of helping children succeed in school. In addition, the Head Start Program Performance Standard requires the Head Start program to ensure that hearing screening is provided within 45 days of the child entering the program.

The supplement, which was awarded on September 29, 2016, permits Utah State University, the cooperative agreement recipient, to improve hearing screening for children in Early Head Start and Head Start programs to ensure school readiness of enrolled children.

SUPPLEMENTARY INFORMATION:

Recipient of the Award: Utah State University.

Amount of Non-Competitive Awards: $460,000.

Budget Period of Supplemental Funding: 4/1/2016-3/31/2017.

CFDA Number: 93.251.

Authority: Public Health Service Act, § 399M, as added by § 702 of the Children's Health Act of 2000 (Pub. L. 106-310) and amended by § 2 of the Early Hearing Detection and Intervention Act of 2010 (Pub. L. 111-337) (42 U.S.C. 280g-1) and Improving Head Start Readiness Act (42 U.S.C. 9843(a)(1)).

Justification: NTRC serves as the National Resource Center for Early Detection and Intervention (EHDI) helping statewide EHDI programs ensure that children with hearing loss are identified as early as possible. NTRC is experienced in providing technical assistance and training to support hearing screening in Head Start programs. As such NTRC has the infrastructure, groundwork, and resources to improve hearing screening for children in Early Head Start and Head Start programs quickly and efficiently. In addition, ACF and HRSA-funded training and technical assistance at NTRC improves efficiency for hearing screening for children and newborns.

FOR FURTHER INFORMATION CONTACT: Sadie Silcott, MBA, MPH, Division of Services for Children with Special Health Needs, Maternal and Child Health Bureau, HRSA, 5600 Fishers Lane, Room 18W57, Rockville, Maryland 20857, Phone: (301) 443-0133, Email: ssilcott@hrsa.gov.

Grantee/organization name | Grant No. | State | FY 2016 Authorized funding level | FY 2016 Estimated supplemental funding
Utah State University | U52MC04391 | UT | $1,500,000 | $460,000

Dated: November 22, 2016.
James Macrae,
Acting Administrator.

[FR Doc. 2016-28866 Filed 11-30-16; 8:45 am]

BILLING CODE 4165-15-P